SMALL BUSINESS ADMINISTRATION

[Declaration of Disaster #P005]

Federated States of Micronesia

As a result of the President's major disaster declaration for Public Assistance on January 6, 2003, the U.S. Small Business Administration is activating its disaster loan program only for private non-profit businesses that provide essential services of a governmental nature. I find that the State of Chuuk within the Federated States of Micronesia constitutes a disaster area due to damages caused by Typhoon Pongsona occurring from December 5, 2002, and continuing through December 7, 2002. Applications for loans for physical damage as a result of this disaster may be filed until the close of business on March 7, 2003 at the address listed below or other locally announced locations: Small Business Administration, Disaster Area 4 Office, P.O. Box 13795, Sacramento, CA 95853-4795.

The interest rates are:

| Percent
For Physical Damage:
Non-Profit Organizations Without Credit Available Elsewhere | 3.324
Non-Profit Organizations With Credit Available Elsewhere | 5.500

The number assigned to this disaster for physical damage is P00508.

(Catalog of Federal Domestic Assistance Program Nos. 59008)
Dated: January 23, 2003.
Herbert L. Mitchell,
Associate Administrator For Disaster Assistance.

[FR Doc. 03-2400 Filed 1-31-03; 8:45 am]

BILLING CODE 8025-01-P